ENVIRONMENTAL PROTECTION AGENCY

[FRN-9754-2]

Meeting of the National Environmental Education Advisory Council

AGENCY: Environmental Protection Agency (EPA).

ACTION: Notice.

SUMMARY: The National Environmental Education Advisory Council will meet on December 13-14th, 2012 in Washington, DC. The focus of the meeting will be to convene the new members of the Council, form work groups and develop plans for the report to congress.

This is an open meeting and all interested persons are invited to attend. The Council will hear comments from the public between 4:30 p.m. and 5:00 p.m. on Thursday December 13th, 2012. Each individual or organization wishing to address the NEEAC meeting will be allowed a maximum of five minutes to present their point of view. Also, written comments should be submitted electronically to araujo.javier@epa.gov. Please contact the Designated Federal Officer (DFO) at the number listed below to schedule agenda time. Time will be allotted on a first come first serve basis, and the total period for comments may be extended if the number of requests for appearances requires it.

ADDRESSES: The NEEAC meeting will be held at Ariel Rios North, Room 3530 located at 1201 Constitution Avenue NW., Washington, DC 20004.

The Council's meeting minutes and summary notes will be available online after the meeting, at http://www.epa.gov/enviroed/neeac.html or can be obtained by written request to the DFO.

FOR FURTHER INFORMATION CONTACT: Javier Araujo, DFO for the National Environmental Education Advisory Council (NEEAC) at (202) 564-2642 or email at araujo.javier@epa.gov.

Information on Services for Those with Disabilities: To request accommodation of a disability, please request it 10 days prior to the meeting, to give EPA as much time as possible to process your request.

Please contact Javier Araujo at (202) 564-2642 or email at: araujo.javier@epa.gov.

Javier Araujo,
Designated Federal Officer, National Environmental Education Advisory Council.

[FR Doc. 2012-28474 Filed 11-21-12; 8:45 am]

BILLING CODE 6560-50-P